DEPARTMENT OF DEFENSE

GENERAL SERVICES ADMINISTRATION

NATIONAL AERONAUTICS AND SPACE ADMINISTRATION

48 CFR Chapter 1

[Docket No. FAR 2016-0051, Sequence No. 6]

Federal Acquisition Regulation; Federal Acquisition Circular 2005-92; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2005-92, which amends the Federal Acquisition Regulation (FAR). An asterisk (*) next to a rule indicates that a regulatory flexibility analysis has been prepared. Interested parties may obtain further information regarding these rules by referring to FAC 2005-92, which precedes this document. These documents are also available via the Internet at http://www.regulations.gov.

DATES: November 18, 2016.

FOR FURTHER INFORMATION CONTACT: For clarification of content, contact the analyst whose name appears in the table below. Please cite FAC 2005-92 and the FAR case number. For information pertaining to status or publication schedules, contact the Regulatory Secretariat Division at 202-501-4755.

Rules Listed in FAC 2005-92
Item | Subject | FAR case | Analyst
* I | Public Disclosure of Greenhouse Gas Emissions and Reduction Goals—Representation | 2015-024 | Gray.
* II | Removal of Regulations Relating to Telegraphic Communication | 2015-035 | Francis.
III | Technical Amendments

SUPPLEMENTARY INFORMATION: Summaries for each FAR rule follow. For the actual revisions and/or amendments made by these rules, refer to the specific item numbers and subjects set forth in the documents following these item summaries. FAC 2005-92 amends the FAR as follows:

Item I—Public Disclosure of Greenhouse Gas Emissions and Reduction Goals—Representation (FAR Case 2015-024)

This final rule amends the FAR to establish an annual representation requirement to indicate whether or not and where contractors publicly disclose greenhouse gas emissions and greenhouse gas emission reduction goals or targets. This representation is optional for contractors that received less than $7.5 million in contract awards from the Government during the previous Federal fiscal year. The information obtained from these representations will assist agencies in developing strategies to engage with contractors to reduce supply chain emissions, as directed in the Executive Order 13693, Planning for Federal Sustainability in the Next Decade.

Item II—Removal of Regulations Relating to Telegraphic Communication (FAR Case 2015-035)

This rule amends the FAR to delete the use of “telegram,” “telegraph,” and related terms. The objective is to delete reference to obsolete technologies no longer in use and replace with references to electronic communications. In addition, conforming changes are made covering expedited notice of termination and change orders.

The rule is not anticipated to have a significant economic impact on small business entities, as the rule provides recognition of current options for transmitting documents between the Government and contractors. The rule also revises the means of disseminating contract termination documents between the Government and contractors; however, this change only affects the Government's responsibility for transmitting termination notices.

Item III—Technical Amendments

Editorial changes are made at FAR 2.101, 7.105, 19.1506, 34.000, 34.005-2, 34.201, 34.203, 42.709, 52.234-2, 52.234-3, and 52.234-4.

Dated: November 10, 2016.
William F. Clark,
Director, Office of Government-wide Acquisition Policy, Office of Acquisition Policy, Office of Government-wide Policy.

[FR Doc. 2016-27697 Filed 11-17-16; 8:45 am]

BILLING CODE 6820-EP-P